DEPARTMENT OF ENERGY

Federal Energy Regulatory Commission

[Docket No. RP02-498-000]

Questar Pipeline Company; Notice of Take-or-Pay Buyout and Tariff Filing

August 23, 2002.

Take notice that on August 15, 2002, Questar Pipeline Company (Questar) proposes that it be permitted to flow through $12,055 in take-or-pay costs to its former sale-for-resale customer Questar Gas Company (formerly Mountain Fuel Supply Company) under the provisions of 25 (Pipeline Supplier Take-or-Pay Buyout/Buydown Billing Recovery) that was terminated December 30, 1999, by Order issued December 22, 1999, in Docket No. RP00-87-000.

Alternatively, should the Commission determine that a specific tariff provision is required, Questar submits for filing and acceptance, pursuant to 18 CFR 154.7, the following tariff sheets to First Revised Volume No. 1 of its FERC Gas Tariff to be effective September 15, 2002:

First Revised Volume No. 1

Ninth Revised Sheet No. 1

Fifth Revised Sheet No. 5A.1

Fourteenth Revised Sheet No. 40

Fourth Revised Sheet No. 97

Any person desiring to be heard or to protest said filing should file a motion to intervene or a protest with the Federal Energy Regulatory Commission, 888 First Street, NE., Washington, DC 20426, in accordance with Sections 385.214 or 385.211 of the Commission's Rules and Regulations. All such motions or protests must be filed on or before August 30, 2002. Protests will be considered by the Commission in determining the appropriate action to be taken, but will not serve to make protestants parties to the proceedings. Any person wishing to become a party must file a motion to intervene. This filing is available for review at the Commission in the Public Reference Room or may be viewed on the Commission's website at http://www.ferc.gov using the “FERRIS” link. Enter the docket number excluding the last three digits in the docket number field to access the document. For Assistance, call (202)502-8222 or for TTY, (202) 208-1659. Comments, protests and interventions may be filed electronically via the Internet in lieu of paper. The Commission strongly encourages electronic filings. See, 18 CFR 385.2001(a)(1)(iii) and the instructions on the Commission's web site under the “e-Filing” link.

Linwood A. Watson, Jr.,
Deputy Secretary.

[FR Doc. 02-22037 Filed 8-28-02; 8:45 am]

BILLING CODE 6717-01-P